DEPARTMENT OF HEALTH AND HUMAN SERVICES

Administration for Children and Families

Proposed Information Collection Activity; National Child Abuse and Neglect Data System (OMB #0970-0424)

AGENCY: Children's Bureau, Administration on Children, Youth and Families, Administration for Children and Families, HHS.

ACTION: Request for public comment.

SUMMARY: The Administration for Children and Families (ACF) is requesting a 3-year extension of the National Child Abuse and Neglect Data System (NCANDS) collection (OMB #0970-0424, expiration 02/28/2021). There are no changes requested to this data collection.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description: The Child Abuse Prevention and Treatment Act (CAPTA) was amended in 1988 to direct the Secretary of HHS to establish a national data collection and analysis program, which would make available state child abuse and neglect reporting information. HHS responded by establishing NCANDS as a voluntary national reporting system.

In 1996, CAPTA was amended to require all states that receive funds from the Basic State Grant program to work with the Secretary of HHS to provide specific data elements, to the maximum extent practicable, about children who had been maltreated. Most of the required data elements were added to the NCANDS data collection. Subsequent CAPTA reauthorizations and amendments added required data elements. The current list of CAPTA-required data elements includes:

1) The number of children who were reported to the state during the year as victims of child abuse or neglect.

2) Of the number of children described in paragraph (1), the number with respect to whom such reports were—

a) Substantiated;

b) Unsubstantiated; or

c) Determined to be false.

3) Of the number of children described in paragraph (2)—

a) the number that did not receive services during the year under the state program funded under this section or an equivalent state program;

b) the number that received services during the year under the state program funded under this section or an equivalent state program; and

c) the number that were removed from their families during the year by disposition of the case.

4) The number of families that received preventive services, including use of differential response, from the state during the year.

5) The number of deaths in the state during the year resulting from child abuse or neglect.

6) Of the number of children described in paragraph (5), the number of such children who were in foster care.

7)

a) The number of child protective service personnel responsible for the—

i.) intake of reports filed in the previous year;

ii.) screening of such reports;

iii.) assessment of such reports; and

iv.) investigation of such reports.

b) The average caseload for the workers described in subparagraph (A).

8) The agency response time with respect to each report pertaining to the initial investigation of child abuse or neglect.

9) The response time with respect to the provision of services to families and children where an allegation of child abuse or neglect has been made.

10) For child protective service personnel responsible for intake, screening, assessment, and investigation of child abuse and neglect reports in the state—

a) information on the education, qualifications, and training requirements established by the state for child protective service professionals, including for entry and advancement in the profession, including advancement to supervisory positions;

b) data of the education, qualifications, and training of such personnel;

c) demographic information of the child protective service personnel; and

d) information on caseload or workload requirements for such personnel, including requirements for average number and maximum number of cases per child protective service worker and supervisor.

11) The number of children reunited with their families or receiving family preservation services that, within 5 years, result in subsequent substantiated reports of child abuse or neglect, including the death of the child.

12) The number of children for whom individuals were appointed by the court to represent the best interests of such children and the average number of out of court contacts between such individuals and children.

13) The annual report containing the summary of activities of the citizen review panels of the state required by subsection (c)(6).

14) The number of children under the care of the state child protection system who are transferred into the custody of the state juvenile justice system.

15) The number of children referred to a child protective services system under subsection (b)(2)(B)(ii).

16) The number of children determined to be eligible for referral, and the number of children referred, under subsection (b)(2)(B)(xxi), to agencies providing early intervention services under part C of the Individuals with Disabilities Education Act (20 U.S.C. 1431 et seq.).

17) The number of children determined to be victims described in subsection (b)(2)(B)(xxiv).

18) The number of infants—

a) identified under subsection (b)(2)(B)(ii);

b) for whom a plan of safe care was developed under subsection (b)(2)(B)(iii); and

c) for whom a referral was made for appropriate services, including services for the affected family or caregiver, under subsection (b)(2)(B)(iii).

The items listed under number (10), (13), and (14) are not collected by NCANDS.

The Children's Bureau proposes to continue collecting the NCANDS data through the two files of the Detailed Case Data Component, the Child File (the case-level component of NCANDS), and the Agency File (additional aggregate data, which cannot be collected at the case level). There are no proposed changes to the NCANDS data collection instruments. New data elements were added during the previous OMB clearance cycle in response to the Justice for Victims of Trafficking Act of 2015 and the Comprehensive Addiction and Recovery Act of 2016, both of which amended CAPTA.

Respondents: State governments, the District of Columbia, and the Commonwealth of Puerto Rico.

Annual Burden Estimates
Instrument | Total number of respondents | Total number of responses per respondent | Average burden hours per response | Total burden hours | Annual burden hours
Detailed Case Data Component (Child File and Agency File) | 52 | 3 | 106 | 16,536 | 5,512

Estimated Total Annual Burden Hours: 5,512.

Comments: The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 42 U.S.C. 5101 et seq.)

Mary B. Jones,
ACF/OPRE Certifying Officer.

[FR Doc. 2020-05500 Filed 3-16-20; 8:45 am]

BILLING CODE 4184-29-P